DEPARTMENT OF COMMERCE

National Oceanic and Atmospheric Administration

RIN 0648-XC137

Marine Mammals; File No. 17324

AGENCY: National Marine Fisheries Service (NMFS), National Oceanic and Atmospheric Administration (NOAA), Commerce.

ACTION: Notice; denial of permit.

SUMMARY: Notice is hereby given that an application for a public display permit (File No. 17324) submitted by the Georgia Aquarium Inc., 225 Baker Street, Atlanta, GA 30313, has been denied.

ADDRESSES: The application and related documents are available for review online at http://www.nmfs.noaa.gov/pr/permits/georgia_aquarium_belugas.htm or upon written request or by appointment in the following office(s):

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

FOR FURTHER INFORMATION CONTACT: Jennifer Skidmore or Kristy Beard, (301)427-8401.

SUPPLEMENTARY INFORMATION: On August 30, 2012, a notice was published in the Federal Register (77 FR 52694) that an application had been filed by the above named applicant for a permit to import 18 wild caught beluga whales from the Utrish Marine Mammal Research Station in Russia to the United States for the purpose of public display. All 18 beluga whales were collected in Sakhalin Bay of the Sea of Okhotsk in 2006, 2010, and 2011. The requested permit has been denied subject to the provisions of the Marine Mammal Protection Act of 1972 (16 U.S.C. 1361 et seq.), and the regulations governing the taking and importing of marine mammals (50 CFR part 216).

An environmental assessment (EA) was prepared analyzing the effects of the proposed activities on the human environment in compliance with the National Environmental Policy Act of 1969 (42 U.S.C. 4321 et seq.). Based on the analyses in the EA, NMFS determined that denial of the permit would not significantly impact the quality of the human environment and that preparation of an environmental impact statement was not required. That determination is documented in a Finding of No Significant Impact (FONSI), signed on August 5, 2013.

Dated: August 5, 2013.
P. Michael Payne,
Chief, Permits and Conservation Division, Office of Protected Resources, National Marine Fisheries Service.

[FR Doc. 2013-19226 Filed 8-8-13; 8:45 am]

BILLING CODE 3510-22-P